DEPARTMENT OF LABOR

Employment and Training Administration

[TA-W-38,350]

Hill Knitting Mills, Richmond Hill, New York; Notice of Negative Determination Regarding Application for Reconsideration

By application dated June 13, 2001, the company requested administrative reconsideration of the Department's negative determination regarding eligibility to apply for Trade Adjustment Assistance (TAA), applicable to workers and former workers of the subject firm. The denial notice was signed on May 8, 2001, and published in the Federal Register on May 23, 2001 (66 FR 28553).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Hill Knitting Mills, Richmond, New York was denied because the “contributed importantly” group eligibility requirement of section 222(3) of the Trade Act of 1974, as amended, was not met. The “contributed importantly” test is generally demonstrated through a survey of customers of the workers' firm. None of the customers reported increasing their purchases of imported interlock JACQ strips with and without separation.

The petitioner feels that the decision is incorrect, since the decision depicted goods the plant produced were used for children's clothing. The petitioner indicated that the goods were used for more than just children's clothing. Although the decision indicated that the workers produced knit fabric for children's clothing the investigation encompassed all goods (interlock JACQ strips with and without separation—sweater blanks, knitted fabric) the mill produced, without distinguishing the end-use (adult, children's—male and female) of the goods considered in the decision. Therefore, the initial investigation and resulting determination included all goods the company produced.

The company in their request for reconsideration explained the reason for the declines in their business, however no new evidence pertinent to the initial petition and investigation was presented.

Conclusion

After review of the application and investigative findings, I conclude that there has been no error or misinterpretation of the law or of the facts which would justify reconsideration of the Department of Labor's prior decision. Accordingly, the application is denied.

Signed at Washington, DC this 26th day of October 2001.
Edward A. Tomchick,
Director, Division of Trade Adjustment Assistance.

[FR Doc. 01-28982 Filed 11-19-01; 8:45 am]

BILLING CODE 4510-30-M